DEPARTMENT OF HEALTH AND HUMAN SERVICES

National Institutes of Health

National Institute of Mental Health; Notice of Workgroup Meeting; Notice Is Hereby Given of a Meeting of the Strategic Planning Implementation Workgroup (SPIWG) Organized by the Interagency Autism Coordinating Committee (IACC)

The purpose of the workgroup meeting is to discuss future budgetary requirements for the IACC Strategic Plan for Autism Spectrum Disorder (ASD) Research. The workgroup findings will be forwarded to the IACC for consideration and discussion at the next committee meeting on November 21, 2008.

Audio of this workgroup meeting will be accessible to the public via a teleconference phone link, and there will be Web-based access to information displayed at the meeting via computer/projector. Attendance at the meeting will be limited due to space available.

Name of Committee: Interagency Autism Coordinating Committee (IACC).

Type of Meeting: Strategic Planning Implementation Working Group.

Date: September 10, 2008.

Time: 11 a.m. to 3 p.m. EDT.

Agenda: To discuss future budgetary requirements for the IACC Strategic Plan for Autism Spectrum Disorder (ASD) Research.

Place: National Institutes of Health, Building 1, Wilson Hall, Bethesda, MD 20892.

Access Information: Conference Call and Webinar, Webinar Registration and Access Information: https://www1.gotomeeting.com/register/550445924. To Access the Conference Call: Dial: Number: 888-455-2920. Access Code: 3857872.

Contact Person: Azik Schwechter, Ph.D., Office of Autism Research Coordination, Office of the Director, National Institute of Mental Health, NIH, 6001 Executive Boulevard, NSC Room 8203a, Bethesda, MD 20892-9669, 301-443-7163, IACCPublicInquiries@mail.nih.gov.

Please Note: The workgroup meeting will be open to the public through a conference call phone number and a web presentation tool on the Internet. Individuals who participate using these electronic services and who need special assistance, such as captioning of the conference call or other reasonable accommodations, should submit a request at least 2 weeks prior to the meeting.

Members of the public who participate using the conference call phone number will be able to listen to the meeting but will not be heard. There may be an opportunity for members of the public to submit written comments during the workgroup meeting through the web presentation tool. Submitted comments will be reviewed after the meeting. If you experience any technical problems with the web presentation tool, please contact GoToWebinar at (800) 263-6317. To access the web presentation tool on the Internet the following computer capabilities are required:

A. Internet Explorer 5.0 or later, Netscape Navigator 6.0 or later or Mozilla Firefox 1.0 or later;

B. Windows® 2000, XP Home, XP Pro, 2003 Server or Vista;

C. Stable 56k, cable modem, ISDN, DSL or better Internet connection;

D. Minimum of Pentium 400 with 256 MB of RAM (Recommended);

E. Java Virtual Machine enabled (Recommended).

Information about the IACC is available on the Web site: http://www.nimh.nih.gov/research-funding/scientific-meetings/recurring-meetings/iacc/index.shtml.

Dated: August 15, 2008.
Jennifer Spaeth,
Director, Office of Federal Advisory Committee Policy.

[FR Doc. E8-19455 Filed 8-21-08; 8:45 am]

BILLING CODE 4140-01-P